DEPARTMENT OF COMMERCE

Census Bureau

Agency Information Collection Activities; Submission to the Office of Management and Budget (OMB) for Review and Approval; Comment Request; The American Community Survey and Puerto Rico Community Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 14, 2021 during a 60-day comment period. This notice allows for an additional 30 days for public comments.

Agency: U.S. Census Bureau.

Title: The American Community Survey and The Puerto Rico Community Survey.

OMB Control Number: 0607-0810.

Form Number(s): ACS-1, ACS-1(SP), ACS-1(PR), ACS-1(PR)SP, ACS-1(GQ), ACS-1(PR)(GQ), GQFQ, ACS CAPI (HU), ACS RI (HU), AGQ QI, and AGQ RI.

Type of Request: Regular submission, Request for an Extension, without Change, of a Currently Approved Collection.

Number of Respondents: 3,576,000 for household respondents; 20,100 for contacts in Group Quarters; 170,900 persons in Group Quarters; 22,875 households for reinterview; and 1,422 Group Quarters contacts for reinterview. The total estimated number of respondents is 3,791,297. This estimate accurately accounts for Puerto Rico samples sizes and responses. The number of respondents were incorrectly listed as 3,775,200 on the 60-day Federal Register Notice.

Average Hours per Response: 40 minutes for the average household questionnaire; 15 minutes for a Group Quarters facility questionnaire; 25 minutes for a Group Quarters person questionnaire; 10 minutes for a household reinterview; 10 minutes for a Group Quarter-level reinterview.

Burden Hours: 2,384,000 for household respondents; 5,025 for contacts in Group Quarters; 71,208 for Group Quarters residents; 3,813 households for reinterview; and 237 Group Quarters contacts for reinterview. The estimate is an annual average of 2,464,283 burden hours. This burden estimate accurately accounts for Puerto Rico sample sizes and responses. On the 60-day Federal Register Notice the burden hours were incorrectly listed as 2,443,366.

Needs and Uses: There continues to be a need for current data describing lower geographic areas and subpopulations. The Census Bureau developed a methodology to collect and update demographic, social, economic, and housing data every year that are essentially the same as the “long-form” data that the Census Bureau formerly collected once a decade as part of the decennial census. The American Community Survey (ACS) blends the strength of small area estimation with the high quality of current surveys. The ACS is an ongoing monthly survey that collects detailed housing and socioeconomic data from about 3.5 million addresses in the United States and about 36,000 addresses in Puerto Rico each year. The ACS also collects detailed socioeconomic data from about 170,000 residents living in group quarters facilities in the United States and about 900 in Puerto Rico. The ACS is now the only source of comparable data about social, economic, housing, and demographic characteristics for small-areas and small subpopulations across the Nation and in Puerto Rico. Every community in the nation continues to receive a detailed, statistical portrait of its social, economic, housing, and demographic characteristics each year through one-year and five-year ACS products.

To collect the ACS data, the Census Bureau uses a multiple mode contact strategy. These modes include mail, internet, telephone, and personal visit. To encourage self-response in the ACS, the Census Bureau sends up to five mailings to housing units selected to be in the sample. The first mailing, sent to all mailable addresses in the sample, includes an invitation to participate in the ACS online and states that a paper questionnaire will be sent in a few weeks to those unable to respond online. The second mailing is a letter that reminds respondents to complete the survey online, thanks them if they have already done so, and informs them that a paper form will be sent at a later date if the Census Bureau does not receive their response. In a third mailing, the questionnaire package is sent only to those sample addresses that have not completed the online questionnaire within two weeks. The fourth mailing is a postcard that reminds respondents to respond and informs them that an interviewer may contact them if they do not complete the survey. A fifth mailing is a letter sent to respondents who have not completed the survey within five weeks. This letter provides a due date and reminds the respondents to return their questionnaires to be removed from future contact. The Census Bureau will ask those who fill out the survey online to provide an email address, which will be used to send an email reminder to households that did not complete the online form. The reminder asks them to log back in to finish responding to the survey. If the Census Bureau does not receive a response or if the household refuses to participate, the address may be selected for computer-assisted personal interviewing, the nonresponse followup data collection mode.

Some addresses are deemed unmailable because the address is incomplete or directs mail only to a post office box. The Census Bureau currently collects data for these housing units using both online and computer-assisted personal interviewing. A small sample of respondents from the nonresponse follow-up data collection interview are recontacted for quality assurance purposes.

For sample housing units in the Puerto Rico Community Survey, a different mail strategy is employed. The Census Bureau continues to use the previously used mail strategy with no references to an internet response option. The Census Bureau sends up to five mailings to a Puerto Rico address selected to be in the sample. The first mailing includes a prenotice letter. The second and fourth mailings include the paper survey. The third and fifth mailings serve as a reminder to respond to the survey. Puerto Rico addresses deemed unmailable because the address is incomplete or directs mail only to a post office box are collected by computer-assisted personal interviewing. A small sample of respondents from the nonresponse follow-up data collection interview are recontacted for quality assurance purposes.

The Census Bureau employs a different strategy to collect data from Group Quarters. The Census Bureau defines Group Quarters as places where people live or stay, in a group living arrangement that is owned or managed by an entity or organization providing housing and/or services for the residents, such as college/university student housing, residential treatment centers, skilled nursing facilities, group homes, military barracks, correctional facilities, workers' group living quarters and Job Corps centers, and emergency and transitional shelters. The Census Bureau collects data for Group Quarters primarily through personal interview. The Census Bureau will obtain the facility information by conducting a personal visit interview with a Group Quarters contact. During this interview, the Census Bureau obtains roster of residents and randomly selects them for person-level interviews. During the person-level phase, a field representative uses a computer-assisted personal interviewing instrument to collect detailed information for each sampled resident. Field representatives also have the option to distribute a bilingual (English/Spanish) questionnaire to residents for self-response if unable to complete a computer-assisted personal interviewing interview. A small sample of respondents are recontacted for quality assurance purposes.

Affected Public: Individuals or households.

Frequency: Monthly.

Respondent's Obligation: Mandatory.

Legal Authority: Title 13 U.S.C. 141 and 193, and 221.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0810.

Sheleen Dumas,
Department PRA Clearance Officer, Office of the Chief Information Officer, Commerce Department.

[FR Doc. 2022-08149 Filed 4-14-22; 8:45 am]

BILLING CODE 3510-07-P